DEPARTMENT OF HEALTH AND HUMAN SERVICES

National Institutes of Health

National Institute of Neurological Disorders and Stroke; Amended Notice of Meeting

Notice is hereby given of a change in the meeting of the National Institute of Neurological Disorders and Stroke Special Emphasis Panel; R13 Review, November 21, 2024, 10:00 a.m. to November 22, 2024, 05:00 p.m., National Institutes of Health, Neuroscience Center, 6001 Executive Boulevard, Rockville, MD, 20852 which was published in the Federal Register on October 24, 2024, FR Doc. 2024-24884, 89 FR 85223.

This notice is being amended to change the dates of this two-day meeting to December 2, 2024, and December 3, 2024. The meeting time remains the same. The meeting is closed to the public.

Dated: November 14, 2024.
David W. Freeman,
Supervisory Program Analyst, Office of Federal Advisory Committee Policy.

[FR Doc. 2024-27045 Filed 11-19-24; 8:45 am]

BILLING CODE 4140-01-P